DEPARTMENT OF HEALTH AND HUMAN SERVICES

Centers for Disease Control and Prevention

[60-Day 14-14IZ]

Proposed Data Collections Submitted for Public Comment and Recommendations

In compliance with the requirement of Section 3506©(2)(A) of the Paperwork Reduction Act of 1995 for opportunity for public comment on proposed data collection project, the Centers for Disease Control and Prevention (CDC) will publish periodic summaries of proposed projects. To request more information on the proposed projects or to obtain a copy of the data collection plans and instruments, call 404-639-7570 and send comments to LeRoy Richardson, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Ready CDC—New—Office of Public Health Preparedness and Response (OPHPR), Centers for Disease Control and Prevention (CDC).

Background and Brief Description

Under the Authority of Section 301 of the Public Health Service Act (42 U.S.C. 241), the Centers for Disease Control and Prevention is responsible for administering the Ready CDC program. Ready CDC is an educational intervention designed to increase awareness about personal and family preparedness and increase the number individuals who are prepared for a disaster in their community. As a response Agency, CDC is responsible for responding to national and international disasters. One component of ensuring staff are prepared to respond to disasters is ensuring that the workforce has their personal and family preparedness plans in place. Research has shown that individuals are more likely to respond to an event if they perceive that their family is prepared to function in their absence during an emergency.

The Ready CDC educational intervention consists of a Personal Preparedness Workshop as well as three targeted communications to reinforce concepts discussed during the workshop. The audience for this intervention will be CDC federal employees with a responder role (Phase I), other samples of the CDC workforce including both federal staff and contractors (Phase II), and audiences outside of the CDC, possibly including other external governmental and non-governmental organizations (Phase III).

CDC requests Office of Management and Budget (OMB) approval for three years to collect information that will measure the initial preparedness of participants, satisfaction with the Personal Preparedness Workshops, and the change in individual knowledge and behaviors related to personal and family preparedness.

CDC has developed three data collection instruments: (1) Pre-Workshop Survey; (2) Ready CDC Workshop Evaluation; and (3) Follow-Up Survey. Collectively, these instruments are needed to gather, process, aggregate, evaluate, and disseminate information describing the program's processes and outcomes. The information will be used by CDC to document progress toward meeting established program goals and objectives, to evaluate outcomes generated by the Ready CDC Personal Preparedness Workshops and to respond to data inquiries made by other agencies of the federal government.

Survey instrument questions will gather perceptions about personal and regional preparedness from the perspective of the participant. Each participant will be surveyed three times, once before and twice after their participation in the Personal Preparedness Workshop.

It is estimated that there will be a total of 600 respondents/year with an estimated time for data collection of 20 minutes each on the pre-workshop survey, 5 minutes each on the Ready CDC Workshop Evaluation, and 10 minutes each on the Follow Up Survey.

Instruments will be administered electronically (by including a link to the survey Web site with the email invitation) with an option for paper copy administration. The Follow Up Survey will be used to document changes in the categories of questions dealing with preparedness from the initial pre-workshop survey.

The estimated total time for data collection is 35 minutes, resulting in an annualized estimated burden of 350 hours.

There are no costs to respondents except their time.

Estimated Annualized Burden Hours
Type of respondent | Form name | Number of respondents | Number of responses per respondent | Average burden per response (in hours) | Total burden (in hours)
Federal Employee, Contractor, or other external governmental and non-governmental organizations | Pre-Workshop Survey | 600 | 1 | 20/60 | 200
Federal Employee, Contractor, or other external governmental and non-governmental organizations | Ready CDC Workshop evaluation | 600 | 1 | 5/60 | 50
Federal Employee, Contractor, or other external governmental and non-governmental organizations | Follow Up Survey | 600 | 1 | 10/60 | 100
Total |  |  |  |  | 350

LeRoy Richardson,
Chief, Information Collection Review Office, Office of Scientific Integrity, Office of the Associate Director for Science, Office of the Director, Centers for Disease Control and Prevention.

[FR Doc. 2014-03177 Filed 2-12-14; 8:45 am]

BILLING CODE 4163-18-P